INTERNATIONAL TRADE COMMISSION

[Investigation No. 731-TA-1057 (Final)]

Certain Processed Hazelnuts From Turkey

AGENCY: United States International Trade Commission.

ACTION: Termination of investigation.

SUMMARY: On February 19, 2004, the Commission received notice from the Department of Commerce stating that, having received a letter from petitioners in the subject investigation (Westnut LLC, Northwest Hazelnut Co., Hazelnut Growers of Oregon, Willamette Filbert Growers, Evergreen Orchards, and Evonuk Orchards) withdrawing their petition, Commerce was terminating its antidumping investigation on certain processed hazelnuts from Turkey. Accordingly, pursuant to section 207.40(a) of the Commission's Rules of Practice and Procedure (19 CFR 207.40(a)), the subject investigation is terminated.

EFFECTIVE DATE: February 19, 2004.

FOR FURTHER INFORMATION CONTACT: Larry Reavis (202-205-3185), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

Authority: This investigation is being terminated under authority of title VII of the Tariff Act of 1930; this notice is published pursuant to section 207.40 of the Commission's rules (19 CFR 207.40).

By order of the Commission.
Marilyn R. Abbott,
Secretary to the Commission.

[FR Doc. 04-5594 Filed 3-11-04; 8:45 am]

BILLING CODE 7020-02-P